NUCLEAR REGULATORY COMMISSION

[Docket No. 030-00842]

Notice of Availability of Environmental Assessment and Finding of No Significant Impact for License Amendment for the University of Minnesota and Release of its Facility in Minneapolis, MN

ACTION: Notice of availability of Environmental Assessment and Finding of No Significant Impact for license amendment.

FOR FURTHER INFORMATION CONTACT: Dr. Peter J. Lee, Division of Nuclear Materials Safety, U.S. Nuclear Regulatory Commission, Region III, 801 Warrenville Road, Lisle, Illinois 60532-4351; telephone (630) 829-9870 or by e-mail at pjl2@nrc.gov.

SUPPLEMENTARY INFORMATION:

I. Introduction

The U.S. Nuclear Regulatory Commission (NRC) is issuing an amendment to University of Minnesota Byproduct Material License No. 22-00187-46, to remove authorization to use radioactive materials from its license for Stone Lab I and II Buildings located at 410 Church Street SE. in Minneapolis, Minnesota, and release the facilities for unrestricted use.

The NRC staff has prepared an Environmental Assessment (EA) in support of this licensing action in accordance with the requirements of 10 CFR Part 51. Based on the EA, the NRC has concluded that a Finding of No Significant Impact (FONSI) is appropriate. The amendment will be issued following publication of this Notice.

II. EA Summary

The purpose of the proposed action is to allow for the release of the licensee's Stone Lab I and II Buildings located on Minneapolis campus for unrestricted use. The University of Minnesota was authorized by the NRC to use radioactive materials for medical diagnosis, therapy, and research utilizing labeled compounds, such as H-3, C-14, P-32, etc. On September 11, 2003, the University of Minnesota requested that NRC release the facilities for unrestricted use. The University of Minnesota has conducted surveys of the facilities and provided information to the NRC to demonstrate that the site meets the license criteria in Subpart E of 10 CFR Part 20 for unrestricted release.

The staff has prepared an EA in support of the proposed licensing action. The staff examined the University of Minnesota's request and the information that the licensee has provided in support of its request, including the surveys performed by University of Minnesota to demonstrate compliance with 10 CFR 20.1402, “Radiological Criteria for Unrestricted Use,” to ensure that the NRC's decision is protective of the public health and safety and the environment. Based on its review, the staff has determined that the affected environment and the environmental impacts associated with the unrestricted use of the University of Minnesota's facilities are bounded by the impacts evaluated by the “Generic Environmental Impact Statement in Support of Rulemaking on Radiological Criteria for License Termination of NRC-Licensed Nuclear Facilities” (NUREG-1496). Additionally, no non-radiological impacts were identified.

III. Finding of No Significant Impact

On the basis of the EA, summarized above, the staff has concluded that there are no significant environmental impacts from the proposed action. Accordingly, the staff has determined that a FONSI is appropriate, and has determined that the preparation of an environmental impact statement is not warranted.

IV. Further Information

In accordance with 10 CFR 2.790 of the NRC's “Rules of Practice,” University of Minnesota's request, the EA summarized above, and the documents related to this proposed action are available electronically for public inspection and copying from the Publicly Available Records (PARS) component of NRC's document system (ADAMS). ADAMS is accessible from the NRC Web site at http://www.nrc.gov/reading-rm/adams.html. These documents include University of Minnesota's letter dated September 11, 2003, with enclosures (Accession No. ML033230183); and the EA summarized above (Accession No. ML033280741).

Dated at Lisle, Illinois, this 2nd day of December 2003.
Christopher G. Miller,
Chief, Decommissioning Branch, Division of Nuclear Materials Safety, RIII.

[FR Doc. 03-30858 Filed 12-12-03; 8:45 am]

BILLING CODE 7590-01-P